DEPARTMENT OF LABOR

Office of the Secretary

Agency Information Collection Activities; Submission for OMB Review; Comment Request; National Agriculture Workers Survey

ACTION: Notice.

SUMMARY: On August 31, 2015, the Department of Labor (DOL) will submit the Employment and Training Administration (ETA) sponsored information collection request (ICR) revision titled, “National Agriculture Workers Survey,” to the Office of Management and Budget (OMB) for review and approval for use in accordance with the Paperwork Reduction Act (PRA) of 1995 (44 U.S.C. 3501 et seq.). Public comments on the ICR are invited.

DATES: The OMB will consider all written comments that agency receives on or before September 30, 2015.

ADDRESSES: A copy of this ICR with applicable supporting documentation; including a description of the likely respondents, proposed frequency of response, and estimated total burden may be obtained free of charge from the RegInfo.gov Web site at http://www.reginfo.gov/public/do/PRAViewICR?ref_nbr=201506-1205-006 (this link will only become active on September 1, 2015) or by contacting Michel Smyth by telephone at 202-693-4129, TTY 202-693-8064, (these are not toll-free numbers) or sending an email to DOL_PRA_PUBLIC@dol.gov.

Submit comments about this request by mail or courier to the Office of Information and Regulatory Affairs, Attn: OMB Desk Officer for DOL-ETA, Office of Management and Budget, Room 10235, 725 17th Street NW., Washington, DC 20503; by Fax: 202-395-5806 (this is not a toll-free number); or by email: OIRA_submission@omb.eop.gov. Commenters are encouraged, but not required, to send a courtesy copy of any comments by mail or courier to the U.S. Department of Labor-OASAM, Office of the Chief Information Officer, Attn: Departmental Information Compliance Management Program, Room N1301, 200 Constitution Avenue NW., Washington, DC 20210; or by email: DOL_PRA_PUBLIC@dol.gov.

FOR FURTHER INFORMATION CONTACT: Michel Smyth by telephone at 202-693-4129, TTY 202-693-8064, (these are not toll-free numbers) or sending an email to DOL_PRA_PUBLIC@dol.gov.

Authority: 44 U.S.C. 3507(a)(1)(D).

SUPPLEMENTARY INFORMATION: This ICR seeks OMB approval under the PRA for revisions to the National Agriculture Workers Survey (NAWS)—an employment-based survey of the demographic, employment, and health characteristics of hired crop farm workers, including workers brought to farms by labor intermediaries. In addition, point of contact information is obtained from farms. Interviews are conducted three times per year, in order to account for the seasonality of agricultural production and employment. This information collection has been classified as a revision, because the ETA seeks approval to add new questions to the NAWS on farm workers' education and training program participation; digital information devices access and use; acute, preventive, and dental health care utilization; living quarters location in relation to production agriculture; and housing type. Proposed changes also include: temporarily discontinuing questions on occupational injuries, musculoskeletal problems, and potential exposure to pesticides that have fulfilled their current purpose; deleting 17 other questions that either had too few responses to be useful for analysis, would be redundant with the addition of proposed questions, or are no longer valid; and modifying the stem and/or response options of six (6) questions to make them more useful. Wagner-Peyser Act section 15 authorizes this information collection. See 29 U.S.C. 49l-2(a).

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information that does not display a valid Control Number. See 5 CFR 1320.5(a) and 1320.6. The DOL obtains OMB approval for this information collection under Control Number 1205-0453. The current approval is scheduled to expire on August 31, 2015; however, the DOL notes that existing information collection requirements submitted to the OMB receive a month-to-month extension while they undergo review. New requirements would only take effect upon OMB approval. For additional substantive information about this ICR, see the related notice published in the Federal Register on June 26, 2015 (80 FR 36853).

Interested parties are encouraged to send comments to the OMB, Office of Information and Regulatory Affairs at the address shown in the ADDRESSES section by September 30, 2015. In order to help ensure appropriate consideration, comments should mention OMB Control Number 1205-0453. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-ETA.

Title of Collection: National Agriculture Workers Survey.

OMB Control Number: 1205-0453.

Affected Public: Individuals or Households and Private Sector—farms.

Total Estimated Number of Respondents: 7,216.

Total Estimated Number of Responses: 7,216.

Total Estimated Annual Time Burden: 3,927 hours.

Total Estimated Annual Other Costs Burden: $0.

Dated: August 24, 2015.
Michel Smyth,
Departmental Clearance Officer.

[FR Doc. 2015-21366 Filed 8-27-15; 8:45 am]

BILLING CODE 4510-FM-P